DEPARTMENT OF TRANSPORTATION

Federal Aviation Administration

Notice of Availability of Record of Decision, Piedmont Triad International Airport, Greensboro, NC

AGENCY: Federal Aviation Administration (FAA), DOT.

ACTION: Notice of availability—Record of Decision (ROD).

The Federal Aviation Administration (FAA) has published a Final Environmental Impact Statement (FEIS) for proposed airport development at Piedmont Triad International Airport, Greensboro, North Carolina. The proposed development consists of constructing and operating a new Runway 5L/23R, an overnight air cargo sorting and distribution facility and associated development. Further, the FAA has prepared a Record of Decision that clearly communicates FAA's consideration of all reasonable alternatives, communicates FAA's findings and rationale for selecting the chosen alternative, and identifies any mitigation measures to be implemented as a part of the selected alternative. The ROD was signed by the Regional Administrator, Southern Region, on December 31, 2001, announcing FAA's decision of the Preferred Alternative, W1-A1. The ROD is being made available to interested parties at the following locations:

Greensboro Public Library, 219 N. Church Street, Greensboro, NC

Guilford County, Branch Library, 619 Dolly Madison Road, Greensboro, NC

High Point Public Library, 901 North Main Street, High Point, NC

Forsyth County Library, 660 West Fifth Street, Winston-Salem, NC

Piedmont Triad International Airport, 6415 Airport Parkway, Greensboro, NC

Federal Aviation Administration, 1701 Columbia Avenue, Suite C-260, College Park, GA

In addition, the ROD can be viewed at the Piedmont Triad Airport Authority's web page www.gsoair.org.

For additional information contact Mr. Scott L. Seritt, Manager, FAA Southern Region, Atlanta Airports District Office, 1701 Columbia Avenue, Suite C-260, College Park, Georgia.

Issued in College Park, Georgia, January 9, 2001.
Scott L. Seritt,
Manager, Atlanta Airports District Office.

[FR Doc. 02-1868 Filed 1-24-02; 8:45 am]

BILLING CODE 4910-13-M